DEPARTMENT OF THE INTERIOR

Bureau of Land Management

[212.LLAZP00000.L122000000. DF0000.LXSSA3610000]

Notice of Closure of Public Land in Maricopa County, Arizona

AGENCY: Bureau of Land Management, Interior.

ACTION: Notice of closure.

SUMMARY: Notice is hereby given that the Bureau of Land Management (BLM) Hassayampa Field Office will close certain public lands in the White Tank Mountain/Miller Road area in Maricopa County, Arizona, to all public use and entry to provide for public health and safety at the site.

DATES: The closure will be in effect for three years from 12:01 a.m., July 28, 2021, or until the completion of site remediation.

FOR FURTHER INFORMATION CONTACT: Leon Thomas, District Manager, 21605 North 7th Avenue, Phoenix, AZ 85027; telephone 623-580-5500; email: l70thoma@blm.gov. Persons who use a telecommunications device for the deaf (TDD) may call the Federal Relay Service (FRS) at 1-800-877-8339 to contact Mr. Thomas during normal business hours. The FRS is available 24 hours a day, 7 days a week, to leave a message or question. You will receive a reply during normal business hours.

SUPPLEMENTARY INFORMATION: This closure affects public lands in the White Tank Mountains/Miller Road area in Maricopa County, Arizona. The legal description of the affected public lands is:

Gila and Salt River Meridian, Arizona

T. 1 N., R. 4 W.,

Sec. 1, Lots 1 thru 4, S½NE¼, S½NW¼;

Sec. 11, SE¼SW¼, SE¼;

Sec. 12, All;

Sec. 13, NE¼NE¼, E½NW¼NE¼, SW¼NW¼NE¼, NE¼NW¼, N½NE¼SE¼NW¼, N½NW¼SE¼NW¼;

Sec. 14, N½NE¼.

The area described is 1,370.64 acres in Maricopa County, Arizona.

The closure is necessary to protect public health and address safety risks resulting from the potential hazards of lead and other heavy metals from recreational shooting on the public lands. The Hassayampa Field Office is in the process of executing a remedial action work plan for the site, which includes reclamation. Once the site is reclaimed, the BLM will reopen the lands to the public.

During the pendency of the closure, all forms of public use and entry, including target shooting and other recreational activities, will be prohibited. However, public roads crossing the closed area, the North Tonopah-Salome Highway and North Parker Liberty Power Road, will remain open to through traffic.

The BLM will post closure signs at main entry points to this area. This closure order will be posted in the Hassayampa Field Office. Maps of the affected area and other documents pertaining to this closure are available at the Hassayampa Field Office, 21605 North 7th Avenue, Phoenix, AZ 85027. Under the authority of Section 303(a) of FLPMA (43 U.S.C. 1733(a)), 43 CFR 8360.0-7, and 43 CFR 8364.1, the BLM will enforce the following closure within certain public lands in the White Tank Mountain/Miller Road area: All public, whether motorized, on foot, or otherwise, is prohibited.

Exemptions: Persons who are exempt from this order include: BLM leaseholders accessing the area for administrative use; any Federal, State, or local officer or employee acting within the scope of their official duties; members of any organized rescue, medical, or firefighting force in performance of an official duty; any person authorized in writing by the BLM; and through traffic on the Tonopah Salome Highway and North Parker Liberty Power Road in accordance with State and County rules.

Enforcement: Any person who violates this closure may be tried before a United States Magistrate judge and fined in accordance with 18 U.S.C. 3571, imprisoned no more than 12 months under 43 U.S.C. 1733(a) and 43 CFR 8360.0-7, or both. In accordance with 43 CFR 8365.1-7, State or local officials may also impose penalties for violations of Arizona law.

(Authority: 43 CFR 8364.1)

Leon Thomas,
Phoenix District Manager.

[FR Doc. 2021-13741 Filed 6-25-21; 8:45 am]

BILLING CODE 4310-32-P